LEGAL SERVICES CORPORATION

Notice of Intent To Award—Grant Awards for the Provision of Civil Legal Services to Eligible Low-Income Clients Beginning January 1, 2015

AGENCY: Legal Services Corporation.

ACTION: Announcement of intention to make FY 2015 Competitive Grant Awards.

SUMMARY: The Legal Services Corporation (LSC) hereby announces its intention to award grants and contracts to provide economical and effective delivery of high quality civil legal services to eligible low-income clients, beginning January 1, 2015.

DATES: All comments and recommendations must be received on or before the close of business on December 5, 2014.

ADDRESSES: Legal Services Corporation—Competitive Grants, Legal Services Corporation; 3333 K Street NW., Third Floor; Washington, DC 20007.

FOR FURTHER INFORMATION CONTACT: Reginald Haley, Office of Program Performance, at (202) 295-1545, or haleyr@lsc.gov.

SUPPLEMENTARY INFORMATION: Pursuant to LSC's announcement of funding availability on April 11, 2014 (79 FR 20243), and Grant Renewal applications due beginning June 2, 2014, LSC intends to award funds to provide civil legal services in the indicated service areas. Applicants for each service area are listed below. The amounts below reflect the most current information available, i.e., 100% implementation of the U.S. Census American Community Survey 2009-2011 poverty population data and the current FY 2015 continuing resolution for LSC Basic Field Funding—$335,514,022. The amounts incorporate the reduction of .0554% contained in Public Law 113-164. Amounts are subject to change. LSC will post all updates and/or changes to this notice at www.grants.lsc.gov. Interested parties are asked to visit www.grants.lsc.gov regularly for updates on the LSC competitive grants process.

Name of applicant organization | State | Service area | Estimated annualized 2015 funding
Alaska Legal Services Corporation | AK | AK-1 | $645,180
Alaska Legal Services Corporation | AK | NAK-1 | 530,075
Legal Services Alabama | AL | AL-4 | 5,839,519
Legal Aid of Arkansas | AR | AR-6 | 1,462,142
Center for Arkansas Legal Services | AR | AR-7 | 2,134,430
American Samoa Legal Aid | AS | AS-1 | 205,475
Community Legal Services | AZ | AZ-3 | 4,905,799
Community Legal Services | AZ | MAZ | 145,206
Southern Arizona Legal Aid | AZ | AZ-5 | 2,074,272
Southern Arizona Legal Aid | AZ | NAZ-6 | 624,756
DNA-People's Legal Services | AZ | AZ-2 | 418,723
DNA-People's Legal Services | AZ | NAZ-5 | 2,557,639
California Indian Legal Services | CA | CA-1 | 23,947
California Indian Legal Services | CA | NCA-1 | 865,944
Greater Bakersfield Legal Assistance | CA | CA-2 | 996,289
Central California Legal Services | CA | CA-26 | 2,775,821
Legal Aid Foundation of Los Angeles | CA | CA-29 | 5,618,846
Neighborhood Legal Services of Los Angeles County | CA | CA-30 | 3,683,409
Inland Counties Legal Services | CA | CA-12 | 4,572,444
Legal Services of Northern California | CA | CA-27 | 3,569,238
Legal Aid Society of San Diego | CA | CA-14 | 2,731,081
California Rural Legal Assistance | CA | CA-31 | 4,660,100
California Rural Legal Assistance | CA | MCA | 2,581,785
Bay Area Legal Aid | CA | CA-28 | 4,109,555
Legal Aid Society of Orange County | CA | CA-19 | 3,436,665
Colorado Legal Services | CO | CO-6 | 4,304,396
Colorado Legal Services | CO | MCO | 145,253
Colorado Legal Services | CO | NCO-1 | 94,128
Statewide Legal Services of Connecticut | CT | CT-1 | 2,376,647
Pine Tree Legal Assistance | CT | NCT-1 | 15,343
Neigh. Legal Services Program of the District of Columbia | DC | DC-1 | 737,705
Legal Services Corporation of Delaware | DE | DE-1 | 674,638
Legal Aid Bureau | DE | MDE | 24,282
Community Legal Services of Mid-Florida | FL | FL-15 | 3,995,807
Florida Rural Legal Services | FL | FL-17 | 3,676,027
Florida Rural Legal Services | FL | MFL | 878,356
Legal Services of Greater Miami | FL | FL-5 | 3,149,743
Legal Services of North Florida | FL | FL-13 | 1,479,144
Bay Area Legal Services | FL | FL-16 | 3,201,721
Three Rivers Legal Services | FL | FL-14 | 1,983,701
Coast to Coast Legal Aid of South Florida | FL | FL-18 | 1,915,738
Atlanta Legal Aid Society | GA | GA-1 | 3,587,818
Georgia Legal Services Program | GA | GA-2 | 7,541,631
Georgia Legal Services Program | GA | MGA | 383,448
Guam Legal Services | GU | GU-1 | 244,784
Legal Aid Society of Hawaii | HI | HI-1 | 1,186,712
Legal Aid Society of Hawaii | HI | NHI-1 | 224,518
Iowa Legal Aid | IA | IA-3 | 2,450,475
Iowa Legal Aid | IA | MIA | 36,901
Idaho Legal Aid Services | ID | ID-1 | 1,427,877
Idaho Legal Aid Services | ID | MID | 182,803
Idaho Legal Aid Services | ID | NID-1 | 63,678
Legal Assistance Foundation of Metropolitan Chicago | IL | IL-6 | 5,675,740
Legal Assistance Foundation of Metropolitan Chicago | IL | MIL | 244,142
Land of Lincoln Legal Assistance Foundation | IL | IL-3 | 2,455,617
Prairie State Legal Services | IL | IL-7 | 3,569,498
Indiana Legal Services | IN | IN-5 | 6,412,776
Indiana Legal Services | IN | MIN | 111,200
Kansas Legal Services | KS | KS-1 | 2,565,390
Legal Aid of the Blue Grass | KY | KY-10 | 1,446,156
Legal Aid Society | KY | KY-2 | 1,294,560
Appalachian Research and Defense Fund of Kentucky | KY | KY-5 | 1,500,155
Kentucky Legal Aid | KY | KY-9 | 1,115,512
Acadiana Legal Services Corp | LA | LA-10 | 1,439,130
Legal Services of North Louisiana | LA | LA-11 | 1,384,455
Southeast Louisiana Legal Services Corporation | LA | LA-13 | 2,782,247
Volunteer Lawyers Project of the Boston Bar | MA | MA-11 | 1,860,353
South Coastal Counties Legal Services | MA | MA-12 | 841,489
Northeast Legal Aid | MA | MA-4 | 757,138
Community Legal Aid | MA | MA-10 | 1,368,149
Legal Aid Bureau | MD | MD-1 | 3,642,691
Legal Aid Bureau | MD | MMD | 88,919
Pine Tree Legal Assistance | ME | ME-1 | 1,079,493
Pine Tree Legal Assistance | ME | MMX-1 | 122,153
Pine Tree Legal Assistance | ME | NME-1 | 63,174
Michigan Advocacy Program | MI | MI-12 | 1,600,628
Michigan Advocacy Program | MI | MMI | 588,703
Legal Services of Eastern Michigan | MI | MI-14 | 1,590,495
Legal Services of Northern Michigan | MI | MI-9 | 797,084
Legal Aid of Western Michigan | MI | MI-15 | 2,168,415
Michigan Community Legal Aid | MI | MI-13 | 4,271,592
Legal Aid and Defender Association | MI | MI-13 | 4,271,592
Michigan Indian Legal Services | MI | NMI-1 | 161,349
Legal Aid Services of Northeast Minnesota | MN | MN-1 | 429,287
Cent Minnesota Legal Services | MN | MN-6 | 1,638,376
Legal Services of Northwest Minnesota Corporation | MN | MN-4 | 328,664
Southern Minnesota Regional Legal Services | MN | MMN | 195,674
Southern Minnesota Regional Legal Services | MN | MN-5 | 1,513,225
Anishinabe Legal Services | MN | NMN-1 | 234,235
Legal Aid of Western Missouri | MO | MMO | 79,674
Legal Aid of Western Missouri | MO | MO-3 | 1,896,461
Legal Services of Eastern Missouri | MO | MO-4 | 1,955,144
Mid-Missouri Legal Services | MO | MO-5 | 435,364
Legal Services of Southern Missouri | MO | MO-7 | 1,652,442
Micronesian Legal Services | MP | MP-1 | 1,227,600
North Mississippi Rural Legal Services | MS | MS-9 | 1,708,407
Mississippi Center For Legal Services | MS | MS-10 | 2,594,814
Mississippi Center For Legal Services | MS | NMS-1 | 81,476
Montana Legal Services Association | MT | MMT | 53,384
Montana Legal Services Association | MT | MT-1 | 932,088
Montana Legal Services Association | MT | NMT-1 | 156,064
Legal Aid of North Carolina | NC | MNC | 524,174
Legal Aid of North Carolina | NC | NC-5 | 10,379,972
Legal Aid of North Carolina | NC | NNC-1 | 213,912
Southern Minnesota Regional Legal Services | ND | MND | 113,365
Legal Services of North Dakota | ND | ND-3 | 437,618
Legal Services of North Dakota | ND | NND-3 | 264,023
Legal Aid of Nebraska | NE | MNE | 41,353
Legal Aid of Nebraska | NE | NE-4 | 1,491,039
Legal Aid of Nebraska | NE | NNE-1 | 32,398
Legal Advice & Referral Center | NH | NH-1 | 726,376
Legal Services of Northwest Jersey | NJ | NJ-15 | 380,382
South Jersey Legal Services | NJ | MNJ | 118,001
South Jersey Legal Services | NJ | NJ-16 | 1,220,144
Northeast New Jersey Legal Services | NJ | NJ-18 | 1,596,067
Essex-Newark Legal Services Project | NJ | NJ-8 | 813,472
South Jersey Legal Services | NJ | NJ-12 | 666,164
Central Jersey Legal Services | NJ | NJ-17 | 1,071,251
DNA-People's Legal Services | NM | NM-1 | 185,008
DNA-People's Legal Services | NM | NNM-2 | 22,267
New Mexico Legal Aid | NM | MNM | 85,416
New Mexico Legal Aid | NM | NM-5 | 2,511,494
New Mexico Legal Aid | NM | NNM-4 | 455,412
Nevada Legal Services | NV | NNV-1 | 130,334
Nevada Legal Services | NV | NV-1 | 2,629,748
Legal Aid Soc. of Northeastern New York | NY | NY-21 | 1,208,146
Neighborhood Legal Services | NY | NY-24 | 1,167,750
Nassau/Suffolk Law Services | NY | NY-7 | 1,136,762
Legal Services For New York City | NY | NY-9 | 10,872,825
Legal Assistance of Western New York | NY | NY-23 | 1,631,738
Legal Aid Society of Mid-New York | NY | MNY | 270,711
Legal Aid Society of Mid-New York | NY | NY-22 | 1,551,218
Legal Services of the Hudson Valley | NY | NY-20 | 1,587,743
Community Legal Aid Services | OH | OH-20 | 1,899,507
Legal Aid Society of Greater Cincinnati | OH | OH-18 | 1,604,186
Legal Aid Society of Cleveland | OH | OH-21 | 2,132,000
Ohio State Legal Services | OH | OH-17 | 1,754,895
Ohio State Legal Services | OH | OH-5 | 1,672,149
Legal Aid of Western Ohio | OH | MOH | 123,198
Legal Aid of Western Ohio | OH | OH-23 | 2,950,941
Oklahoma Indian Legal Services | OK | NOK-1 | 802,530
Legal Aid Services of Oklahoma | OK | MOK | 61,203
Legal Aid Services of Oklahoma | OK | OK-3 | 4,119,852
Legal Aid Services of Oregon | OR | MOR | 544,782
Legal Aid Services of Oregon | OR | NOR-1 | 180,935
Legal Aid Services of Oregon | OR | OR-6 | 3,516,844
Philadelphia Legal Assistance Center | PA | MPA | 162,099
Philadelphia Legal Assistance Center | PA | PA-1 | 2,677,751
Laurel Legal Services | PA | PA-5 | 618,297
MidPenn Legal Services | PA | PA-25 | 2,258,154
Neighborhood Legal Services Association | PA | PA-8 | 1,365,336
North Penn Legal Services | PA | PA-24 | 1,808,839
Southwestern Pennsylvania Legal Services | PA | PA-11 | 412,032
Northwestern Legal Services | PA | PA-26 | 680,858
Legal Aid of Southeastern Pennsylvania | PA | PA-23 | 1,086,949
Puerto Rico Legal Services | PR | MPR | 284,348
Puerto Rico Legal Services | PR | PR-1 | 10,879,482
Community Law Office | PR | PR-2 | 216,357
Rhode Island Legal Services | RI | RI-1 | 929,459
South Carolina Legal Services | SC | MSC | 193,448
South Carolina Legal Services | SC | SC-8 | 5,381,826
East River Legal Services | SD | SD-2 | 376,995
Dakota Plains Legal Services | SD | NSD-1 | 915,161
Dakota Plains Legal Services | SD | SD-4 | 377,132
Legal Aid of East Tennessee | TN | TN-9 | 2,354,899
Memphis Area Legal Services | TN | TN-4 | 1,390,136
Legal Aid Society of Middle TN and the Cumberlands | TN | TN-10 | 3,009,229
West Tennessee Legal Services | TN | TN-7 | 678,373
Legal Aid of Northwest Texas | TX | TX-14 | 8,456,594
Lone Star Legal Aid | TX | TX-13 | 10,055,057
Texas RioGrande Legal Aid | TX | MSX-2 | 1,654,381
Texas RioGrande Legal Aid | TX | NTX-1 | 30,676
Texas RioGrande Legal Aid | TX | TX-15 | 10,032,517
Utah Legal Services | UT | MUT | 66,338
Utah Legal Services | UT | NUT-1 | 80,637
Utah Legal Services | UT | UT-1 | 2,294,440
Legal Services of Northern Virginia | VA | VA-20 | 1,226,781
Southwest Virginia Legal Aid Society | VA | VA-15 | 700,087
Legal Aid Society of Eastern Virginia | VA | VA-16 | 1,120,340
Central Virginia Legal Aid Society | VA | MVA | 154,246
Central Virginia Legal Aid Society | VA | VA-18 | 1,086,314
Virginia Legal Aid Society | VA | VA-17 | 831,158
Blue Ridge Legal Services | VA | VA-19 | 766,800
Legal Services of the Virgin Islands | VI | VI-1 | 161,307
Legal Services Law Line of Vermont | VT | VT-1 | 476,000
Northwest Justice Project | WA | MWA | 713,874
Northwest Justice Project | WA | NWA-1 | 279,211
Northwest Justice Project | WA | WA-1 | 5,273,562
Legal Action of Wisconsin | WI | MWI | 89,042
Legal Action of Wisconsin | WI | WI-5 | 3,800,229
Wisconsin Judicare | WI | NWI-1 | 152,042
Wisconsin Judicare | WI | WI-2 | 1,001,526
Legal Aid of West Virginia | WV | WV-5 | 2,203,349
Legal Aid of Wyoming | WY | NWY-1 | 169,372
Legal Aid of Wyoming | WY | WY-4 | 407,552

These grants and contracts will be awarded under the authority conferred on LSC by the Legal Services Corporation Act, as amended, 42 U.S.C. 2996e(a)(l). Awards will be made so that each service area is served, although no listed organization is guaranteed an award or contract. Grants will become effective and grant funds will be distributed on or about January 1, 2015.

This notice is issued pursuant to 42 U.S.C. 2996f(f). Comments and recommendations concerning potential grantees are invited, and should be delivered to LSC within thirty (30) days from the date of publication of this notice.

Dated: October 31, 2014.
Stefanie K. Davis,
Assistant General Counsel.

[FR Doc. 2014-26251 Filed 11-4-14; 8:45 am]

BILLING CODE 7050-01-P